DEPARTMENT OF TRANSPORTATION

Federal Aviation Administration

Notice of Extension for the Final Environmental Impact Statement for the Proposed Airport, Angoon, Alaska

AGENCY: Federal Aviation Administration (FAA), DOT.

ACTION: Notice of Extension as required by ANILCA title XI.

SUMMARY: The Alaska Department of Transportation and Public Facilities filed a title XI ANILCA application with the FAA, U.S. Forest Service, and U.S. Army Corps of Engineers on January 9, 2015. ANILCA section 1104(e), states that “the final environmental impact statement shall be completed within one year from the date of such filing. Such nine-month and one-year periods may be extended for good cause by the Federal agency head assigned lead responsibility for the preparation of such statement if he determines that additional time is necessary for such preparation, notifies the applicant in writing of such determination and publishes notice of such determination, together with the reasons therefore, in the Federal Register”. Due to complexities of the project, the FAA has determined that additional time is necessary to complete the final environmental impact statement.

FOR FURTHER INFORMATION CONTACT: Leslie Grey, AAL-611, Federal Aviation Administration, Alaskan Region, Airports Division, 222 W. 7th Avenue Box #14, Anchorage, AK 99513. Ms. Grey may be contacted during business hours at (907) 271-5453 (telephone) and (907) 271-2851 (fax), or by email at Leslie.Grey@faa.gov.

SUPPLEMENTARY INFORMATION:

Additional details regarding the project can be found on the project Web site at www.angoonairporteis.com.

Issued in Anchorage, Alaska, on December 23, 2015.
Byron K. Huffman,
Manager, Airports Division, AAL-600.

[FR Doc. 2016-00092 Filed 1-7-16; 8:45 am]

BILLING CODE 4910-13-P